DEPARTMENT OF COMMERCE

Foreign-Trade Zones Board

[Docket 23-2011]

Foreign-Trade Zone 41—Milwaukee, WI; Application for Reorganization Under Alternative Site Framework

An application has been submitted to the Foreign-Trade Zones (FTZ) Board (the Board) by the Foreign Trade Zone of Wisconsin, Ltd., grantee of FTZ 41, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 21, 2011.

FTZ 41 was approved by the Board on September 29, 1978 (Board Order 136, 43 FR 46887, 10/11/1978) and expanded on August 4, 1981 (Board Order 178, 46 FR 40718, 8/11/1981), October 18, 1985 (Board Order 315, 50 FR 43749, 10/29/1985), May 27, 1993 (Board Order 641, 58 FR 32512, 6/10/1993), September 4, 1994 (Board Order 694, 59 FR 47115, 9/14/1994) and April 29, 1996 (Board Order 818, 61 FR 21157, 5/9/1996).

The current zone project includes the following sites: Site 1 (4.83 acres)—Interior Continental Transportation Systems, 1925 East Kelly Lane, Cudahy, Milwaukee County; Site 2 (120 acres)—West Allis Industrial Center, 640 S. 84th Street, West Allis, Milwaukee County; Site 3 (300 acres)—Port of Milwaukee, 2323 S. Lincoln Memorial Drive, Milwaukee, Milwaukee County; Site 4 (166 acres)—Milwaukee County Research Park, U.S. Highway 45 and Watertown Plank Road, Wauwatosa, Milwaukee County; and, Site 5 (10 acres)—Grandview Industrial Park, 1333 North Grandview Parkway, Sturtevant, Racine County.

The grantee's proposed service area under the ASF would be Kenosha, Milwaukee and Racine Counties, Wisconsin, as described in the application. If approved, the grantee would be able to serve sites throughout the service area based on companies' needs for FTZ designation. The proposed service area is within and adjacent to the Milwaukee Customs and Border Protection port of entry.

The applicant is requesting authority to reorganize its existing zone project to include existing Sites 2-4 as “magnet” sites. The applicant is also requesting that existing Sites 1 and 5 be included as “usage-driven” sites. The ASF allows for the possible exemption of one magnet site from the “sunset” time limits that generally apply to sites under the ASF, and the applicant proposes that Site 3 be so exempted. The applicant is also requesting approval of the following “usage-driven” sites: Proposed Site 6 (24 acres)—Hospira Worldwide, Inc., 10501 South Avenue, Pleasant Prairie, Kenosha County; Proposed Site 7 (13 acres)—Sigma-Aldrich Corporation, 2905 W. Hope Avenue, Milwaukee, Milwaukee County; Proposed Site 8 (2.6 acres)—Sigma-Aldrich Corporation, 230 South Emmber Lane, Milwaukee, Milwaukee County; and, Proposed Site 9 (79.7 acres)—Sigma-Aldrich Corporation, 6000 N. Teutonia Avenue, Milwaukee, Milwaukee County. Because the ASF only pertains to establishing or reorganizing a general-purpose zone, the application would have no impact on FTZ 41's authorized subzones.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is May 24, 2011. Rebuttal comments in response to material submitted during the foregoing period may be submitted during the subsequent 15-day period to June 8, 2011.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Elizabeth Whiteman at Elizabeth.Whiteman@trade.gov or (202) 482-0473.

Dated: March 21, 2011.
Andrew McGilvray,
Executive Secretary.

[FR Doc. 2011-7139 Filed 3-24-11; 8:45 am]

BILLING CODE P